DEPARTMENT OF COMMERCE

International Trade Administration

[C-351-846]

Certain Hot-Rolled Steel Flat Products From Brazil: Rescission of the 2019 Countervailing Duty Administrative Review

AGENCY: Enforcement and Compliance, International Trade Administration, Department of Commerce.

SUMMARY: The Department of Commerce (Commerce) is rescinding the administrative review of the countervailing duty (CVD) order on certain hot-rolled steel flat products (hot-rolled steel) from Brazil for the period of review (POR) January 1, 2019, through December 31, 2019.

DATES: Applicable March 17, 2021.

FOR FURTHER INFORMATION CONTACT: Ajay Menon, AD/CVD Operations, Office II, Enforcement and Compliance, International Trade Administration, U.S. Department of Commerce, 1401 Constitution Avenue NW, Washington, DC 20230; telephone: (202) 482-1993.

Background

On October 1, 2020, Commerce published in the Federal Register a notice of opportunity to request an administrative review of the CVD order on hot-rolled steel from Brazil for the POR.¹ On October 30, 2020, Commerce received a timely request from AK Steel Corporation, Nucor Corporation, United States Steel Corporation, Steel Dynamics, Inc., and SSAB Enterprises, LLC (collectively, domestic interested parties), in accordance with section 751(a) of the Tariff Act of 1930, as amended (the Act), and 19 CFR 351.213(b), to conduct an administrative review of this CVD order for 12 companies.²

¹ See Antidumping or Countervailing Duty Order, Finding, or Suspended Investigation; Opportunity to Request Administrative Review, 85 FR 61926 (October 1, 2020).

² See Letter from Petitioners, “Hot-Rolled Steel Flat Products from Brazil: Request for Administrative Review of Countervailing Duty Order,” dated October 30, 2020.

On December 8, 2020, Commerce published in the Federal Register a notice of initiation with respect to these companies.³ On February 2, 2021, the domestic interested parties timely withdrew their request for an administrative review for all 12 companies.⁴

³ See Initiation of Antidumping and Countervailing Duty Administrative Reviews, 85 FR 78990 (December 8, 2020).

⁴ See Letter from Petitioners, “Hot-Rolled Steel Flat Products from Brazil: Withdrawal of Request for Administrative Review of Countervailing Duty Order,” dated February 2, 2021.

Rescission of Review

Pursuant to 19 CFR 351.213(d)(1), Commerce will rescind an administrative review, in whole or in part, if the parties that requested a review withdraw the request within 90 days of the date of publication of notice of initiation of the requested review. As noted above, the domestic interested parties withdrew their request for review by the 90-day deadline, and no other party requested an administrative review of this order. Therefore, we are rescinding the administrative review of the CVD order on certain hot-rolled steel flat products from Brazil covering the period January 1, 2019, through December 31, 2019, in its entirety.

Assessment

Commerce will instruct U.S. Customs and Border Protection (CBP) to assess countervailing duties on all appropriate entries. Because Commerce is rescinding this administrative review in its entirety, the entries to which this administrative review pertained shall be assessed at rates equal to the cash deposit of estimated countervailing duties required at the time of entry, or withdrawal from warehouse, for consumption, in accordance with 19 CFR 351.212(c)(1)(i). Commerce intends to issue appropriate assessment instructions directly to CBP no earlier than 35 days after the date of publication of this notice in the Federal Register.

Notification Regarding Administrative Protective Orders

This notice serves as the only reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: March 11, 2021.
James Maeder,
Deputy Assistant Secretary for Antidumping and Countervailing Duty Operations.

[FR Doc. 2021-05477 Filed 3-16-21; 8:45 am]

BILLING CODE 3510-DS-P